DEPARTMENT OF HOMELAND SECURITY

Coast Guard

33 CFR Part 100

[USCG-2016-0264]

Special Local Regulation, Newport to Bermuda Regatta, Narragansett Bay, Newport, RI

AGENCY: Coast Guard, DHS.

ACTION: Notice of enforcement of regulation.

SUMMARY: The Coast Guard will enforce the Special Local Regulation for the biennial Newport to Bermuda Regatta, Narragansett Bay, Rhode Island, from 12 p.m. to 7:30 p.m. on Friday, June 17, 2016. This action is necessary to ensure the safety of all participants and spectators from the inherent dangers associated with these types of races, which include numerous large, fast sailing vessels and hundreds of spectator vessels. During the enforcement period, no person or vessel may enter or remain in the regulated area except for participants in the event, supporting personnel, vessels registered with the event organizer, and personnel or vessels authorized by the Coast Guard on-scene patrol commander.

DATES: The regulation in 33 CFR 100.119 will be enforced from 12 p.m. to 7:30 p.m. on June 17, 2016.

FOR FURTHER INFORMATION CONTACT: If you have questions about this notice of enforcement, call or email Mr. Edward LeBlanc, Waterways Management, Sector Southeastern New England, (401) 435-2351, email edward.g.leblanc@uscg.mil.

SUPPLEMENTARY INFORMATION: The Coast Guard will enforce the special local regulation for the biennial Newport/Bermuda Regatta, Narragansett Bay, Newport, RI, from 12 p.m. to 7:30 p.m. on Friday, June 17, 2016. A portion of the navigable waters the East Passage, Narragansett Bay, Newport, RI or its approaches will be closed during the effective period to all vessel traffic, except local, state or Coast Guard patrol craft. The full text of this regulation is found in 33 CFR 100.119. This notice of enforcement is issued under authority of 33 CFR 165.119 and 5 U.S.C. 552(a). In addition to this notice of enforcement in the Federal Register, the Coast Guard plans to provide notification of this enforcement periods via the Local Notice to Mariners and Broadcast Notice to Mariners.

Dated: March 30, 2016.
R.J. Schultz,
Captain, U.S. Coast Guard, Acting Captain of the Port, Southeastern New England.

[FR Doc. 2016-09276 Filed 4-20-16; 8:45 am]

BILLING CODE 9110-04-P